DEPARTMENT OF STATE

22 CFR Part 62

[Public Notice: 12342]

RIN 1400-AC36

Exchange Visitor Program—General Provisions

AGENCY: U.S. Department of State.

ACTION: Final rule.

SUMMARY: On March 28, 2023, the U.S. Department of State (Department of State) published in the Federal Register an interim final rule with request for comment (2023 Interim Final Rule) for the Exchange Visitor Program regulations that apply to sponsors the Department of State designates to conduct international educational and cultural exchange programs. In this final rule, the Department of State responds to public comments submitted in response to the 2023 Interim Final Rule and makes minor revisions to the regulations.

DATES: This rule is effective on May 23, 2024.

FOR FURTHER INFORMATION CONTACT: Rebecca Pasini, Deputy Assistant Secretary of the Office of Private Sector Exchange at SA-5, 2200 C Street NW, Washington, DC 20522 or via email at JExchanges@state.gov or phone at (202) 632-9327.

SUPPLEMENTARY INFORMATION: The 2023 Interim Final Rule, effective April 27, 2023 (88 FR 18249), allows sponsors to sign Forms DS-2019 using digital signatures and to transmit Forms DS-2019 electronically to a specified list of recipients. In this final rule, the Department of State addresses the comments that parties submitted in response to the 2023 Interim Final Rule and makes minor revisions to the regulatory language. Most of the 64 commenting parties addressed two topics: sponsor preference for electronic signatures rather than digital signatures, and the need for sponsors to electronically transmit Forms DS-2019 directly to third parties acting on their behalf. After consideration, the Department of State has retained the requirement for digital signatures for signing Forms DS-2019, and it makes no changes to the list of entities to which sponsors may transmit Forms DS-2019 electronically. However, this rule will modify the regulations at 22 CFR 62.12(c)(3) to allow third parties to retrieve Forms DS-2019 directly from sponsors' password-protected computer network systems and/or databases. This modification allows third parties to retrieve copies of digital Forms DS-2019 directly from sponsors that wish to give them such access.

The Department of State also continues to permit sponsors to wet sign and physically mail Forms DS-2019 to exchange visitors and/or third parties. Sponsors that find the functionality of digital signatures too burdensome or costly or wish to continue to send Forms DS-2019 in bulk to third parties are not required to adopt the new procedures.

In addition to commenting on the proposed regulations, many parties submitted questions and/or requests for clarification. To the extent such inquiries relate to this rulemaking, the Department of State will address them herein. Otherwise, the Department of State recommends that interested parties refer to J1visa.state.gov for more detailed guidance and/or direct specific queries to the jexchanges@state.gov or to one of the category-specific email accounts.

Digital Versus Electronic Signatures

22 CFR 62.12(b)(2)(iii)

Seventeen of the parties submitting comments on the 2023 Interim Final Rule addressed the Department of State's decision to allow Responsible Officers and Alternate Responsible Officers (collectively, Officers) to sign Forms DS-2019 with “digital” signature software as opposed to the broader category of “electronic” signature software, of which digital is a subset. These parties offered the following reasons in support of their requests that the Department of State allow electronic signatures: (1) the definition of “digital software” in the 2023 Interim Final Rule is too vague for sponsors to know whether their software selections meet regulatory requirements; (2) the cryptographical requirements of digital software increase costs and burdens; (3) the vetting of Officers and their limited access to the Student and Exchange Visitor Information System (SEVIS) already provide a high level of security; (4) wet-signed, printed, scanned, and converted-to-portable document format (pdf) Forms DS-2019 are no more or less secure than those signed with electronic signature software and electronically transmitted; (5) it is cumbersome and costly for sponsors with J and F programs to have two operating procedures; (6) the Department of State already accepts electronic signatures on the U.S. Department of Homeland Security's (DHS's) Forms I-20 (Certificate of Eligibility for Nonimmigrant Student Status); and (7) the variety of printed Forms DS-2019 (given different signature, printing, and paper options) may confuse U.S. Government authorities who grant J visas, determine admissibility and entry into the United States, or otherwise review Forms DS-2019. The Department of State considered many of these factors when it originally decided to require the higher level of security that digital signatures offer, and it continues to believe that the benefits of such security overcome the concerns of commenting parties. It addresses each issue individually as follows:

Definition of digital signature. Seven commenting parties expressed confusion over the Department of State's definition of “digital signature.” Sponsors can utilize any digital signature software that is an application of technology for cryptographically derived signatures that is supported by a process such as a public key infrastructure and that ensures meaningful authentication of the identity of the signer and integrity of the document. Two examples are DocuSign® and Adobe Acrobat® Sign, and there are numerous other examples of digital signature technologies with which the public may be familiar. In response to questions from commenting parties, the Department of State identifies some examples of signatures that are not considered digital for purposes of regulatory compliance: copied and pasted signatures, signatures drawn via computer mouse, and typed signatures. The Department of State continues to believe that sponsors may consult either internal or external information technology experts who can readily confirm whether a particular software package offers the degree of security necessary to differentiate digital signatures from other types of electronic signatures, thereby meeting the new regulatory requirements.

Increased costs and burdens. Nine commenting parties opined that the implementation of digital signature software would be costly and burdensome. The cost and complexity of implementing digital signature capability varies within the sponsor community, based on many factors. Some sponsors may find that it is not cost effective to implement digital signature capability, and they may opt instead to continue with business as usual (using wet signatures). Other sponsors may have already implemented such capacity, allowing them to benefit from reduced costs and burdens. By retaining the current methodologies while introducing new options, the Department of State allows those sponsors that do not wish to incur different costs or new burdens to maintain their current operating procedures.

SEVIS access vetting provides sufficient security. One commenting party stated that digital signatures were unnecessary since sufficient security was provided by vetting Officers and requiring passwords to access SEVIS. However, the process of signing and transmitting Forms DS-2019 occurs outside of SEVIS, making credentialed access to SEVIS an insufficient protection for these two functions.

Comparability of Electronic Signatures and Wet-Signed and Scanned Signatures. Four commenting parties opined that wet-signed, printed, scanned, and converted-to-pdf Forms DS-2019 offer similar security as electronically signed and transmitted Forms DS-2019s. The Department of State respectfully disagrees. If a fraud investigation involved a Form DS-2019, the form would likely be returned to the sponsor to determine whether a signature was legitimate. At the very least, wet-signed documents—whether transmitted electronically or via mail—bear signatures that are exclusive to a limited group of authorized and vetted signatories. Although wet-signed signatures may be copied, Officers can attest to the authenticity of their signatures and/or whether they recall processing and signing forms that others may suspect are fraudulent.

Visual review of forms signed with most electronic software, however, would not offer any clues as to their legitimacy since most electronic signatures lack both the personalization of wet signatures and the encrypted traceability of digital signatures. For example, electronic signatures may be typed names, typed names in italics, or a signature made with a computer mouse, representations that are difficult to verify as to their source. Further, the volume of forms some Officers process would reduce the likelihood that they could recognize a form as one that they, a coworker, or former employee signed electronically.

Different treatment of Forms DS-2019 and Forms I-20 increases burden and cost. Nine commenting parties expressed concern that having to process Forms DS-2019 differently than Forms I-20 would increase their burden and cost. Sponsors that processed both Forms DS-2019 and Forms I-20 prior to publication of the 2023 Interim Final Rule already followed two separate processes. Since sponsors may continue to print and wet-sign Forms DS-2019, implementation of digital signature software does not disrupt the status quo. That is, sponsors can continue to conduct two processes, and they are not required to adopt a potentially more costly alternative. Moreover, those sponsors that wish to continue wet-signing Forms DS-2019 may now avail themselves of the cost- and time-saving electronic transmission of such forms.

Department of State already accepts electronically signed Forms I-20. Eight commenting parties stated that there was no reason for the Department of State to use a different signing process than DHS requires for Forms I-20. The Department of State and DHS have always independently assessed the risks associated with their respective international exchange programs, and whether electronic signatures offer sufficient security for the Student and Exchange Visitor Program (SEVP) has no bearing on the security requirements for Forms DS-2019. The Department of State has promulgated specific regulations for the Exchange Visitor Program based on its assessment of the risks associated with the Program that may not apply to all SEVP activities.

In their comments, many sponsors sought the capability to transmit Forms DS-2019 electronically to third parties acting on their behalf, citing the important role third parties play in their exchange programs. Although the Department of State continues to prohibit this activity, it has modified the regulations at 22 CFR 62.12(c)(3) to allow sponsors to permit third parties to retrieve copies of digital Forms DS-2019 directly from sponsors' password-protected computer networks and databases, at the sponsors' discretion. It is the Department of State's understanding that the SEVP model does not similarly engage foreign third parties, thereby significantly reducing the need to ensure protection and authenticity of their forms.

Another difference between SEVP activities (for F or M visa classifications) and the Exchange Visitor Program involves the locations at which students and exchange visitors are placed. For example, except for F-1 students placed off-campus, e.g., to obtain practical work experience, participants entering the United States on F-visas are placed exclusively at SEVP-certified academic institutions. However, sponsors in the Private Sector categories of the Exchange Visitor Program (with approximately 200,000 exchange visitors starting new programs each year) for the most part do not similarly place their exchange visitors at their own locations. Non-academic sponsors place exchange visitors at tens of thousands of different private businesses or other organizations that the Department of State does not vet. The sheer number, variety, and location of such placements present greater opportunities for fraud than do placements at a finite number of certified academic institutions. These different levels of risk justify different levels of security.

Different signatures and looks of Forms DS-2019 may confuse authorities. Four commenting parties expressed concern that the variety of physical forms and signature types could confuse U.S. Customs and Border agents, Social Security Administration officials, or even consular officers at U.S. embassies or consulates. Prior to publishing the 2023 Interim Final Rule, the Department of State alerted those entities that routinely process or review Forms DS-2019 of the upcoming regulatory changes. Moreover, in recent consultation with the Department of State's Bureau of Consular Affairs, the Office of Private Sector Exchange confirmed that confusion has been minimal. Going forward, the Department of State is prepared to address any instances of confusion (e.g., turnarounds at ports of entry) should they materialize.

The Department of State has promulgated specific regulations for the Exchange Visitor Program based on its assessment of the risks associated with the Program that may not apply to SEVP activities. For example, after the implementation of SEVIS in 2002, the Department of State required Officers to wet-sign Forms DS-2019 in blue ink to differentiate original documents from forgers. The Department of State, therefore, confirms its decision to permit the more secure digital software, but not generic electronic signature software.

Transmission of Forms DS-2019

The second most frequently raised concern with the 2023 Interim Final Rule is the limitation on the third parties to which sponsors may electronically transmit Forms DS-2019. Ten parties objected to the exclusion of third parties (as defined in 22 CFR 62.2) of sponsors from the enumerated list of authorized recipients of electronically transmitted forms. Parties generally indicated that the visa interview process is facilitated by providing Forms DS-2019 directly to foreign third parties who perform the critical functions of checking forms for accuracy, helping schedule group interviews, and forwarding batches of Forms DS-2019 to consular sections at posts.

First, the Department of State clarifies that only individuals who are employees of a sponsor are considered “staff” for purposes of 22 CFR 62.12(c)(1). Staff at institutions that are designated sponsors are not third parties, and third parties are not considered sponsor staff. Two parties also questioned whether they could copy third parties when they transmit Forms DS-2019 electronically to members of the Department of State's list of acceptable recipients. Since parties receive electronic transmissions regardless of whether they are listed in the “to” line or the “cc” line of an email message, sponsors may not copy any entities that are not enumerated in 22 CFR 62.12(c)(1).

Five commenting parties asked whether sponsors could provide third parties with password-protected access to their computer network systems and/or databases to allow them to log on to access electronic Forms DS-2019. The Department of State believes that such credentialed access provides a degree of security not available through emailing electronic Forms DS-2019. There are millions of email accounts world-wide as opposed to the small number of third parties to which sponsors would opt to grant network access. The risk of someone gaining inappropriate access to Forms DS-2019 is significantly minimized by restricting access in this way. Accordingly, the Department of State has modified the regulations at 22 CFR 62.12(c)(3) to permit this functionality. As a point of clarification, it notes that for purposes of these regulations, electronic transmission is limited to sponsor-initiated sending of files to individuals or entities, including exchange visitors. Prior to making Forms DS-2019 available for third parties to retrieve, sponsors must either wet sign and convert forms to electronic files or sign the forms with digital signatures since 22 CFR 62.12(b)(2)(i) continues to allow only Officers present in the United States or a U.S. territory to sign Forms DS-2019. The Department of State further reminds sponsors that even in a digital environment, there is only one “original” Form DS-2019. If sponsors allow third parties to retrieve Forms DS-2019 from sponsor network systems and/or databases, they must not also mail or electronically transmit the same forms to individuals or entities listed in § 62.12(c)(1). The Department of State has added regulatory language at 22 CFR 62.12(c)(4) to prohibit sponsors from issuing multiple copies of original Forms DS-2019.

For those sponsors that lack the capacity to give third parties password-protected access to their computer network systems and/or databases or do not wish to provide such access, the Department of State reminds them that they may continue to wet-sign Forms DS-2019 and send paper forms to third parties pursuant to 22 CFR 62.12(c)(2).

Other parties expressed concern that Exchange Visitor Program applicants may not have access to email and/or printing facilities. For applicants without email access, sponsors may continue to mail paper forms to applicants and/or to third parties. For applicants without printers at home, the Department of State notes that schools, libraries, and businesses often have printing capabilities that third parties may access for a minimal fee. Nothing in the regulations prohibits exchange visitors from, e.g., emailing Forms DS-2019 to other places, such as offices or friends' homes, for printing. The Department of State believes that these alternatives are sufficient so as not to disrupt the role that third parties play in assisting sponsors and exchange visitors with the visa interview process.

Miscellaneous Comments

Five parties asked for clarification on how the 2023 Interim Final Rule changes the process of providing travel signatures on Forms DS-2019. The new regulations provide flexibility for signing and transmitting Forms DS-2019 to approve travel. First, sponsors may either reprint Forms DS-2019, sign the travel signature space with any color of ink, and send them to exchange visitors using a delivery service; or convert Forms DS-2019 to electronic files and transmit them electronically. Alternatively, Officers may sign the travel signature space of Forms DS-2019 using a digital signature and either transmit them electronically or print them and send them via delivery service. Sponsors that approve travel should advise exchange visitors to carry both Forms DS-2019 when they leave the United States, i.e., the original paper forms and the subsequently issued forms with the travel authorization signature. Parties also questioned whether they should sign reprinted Forms DS-2019 or have exchange visitors send their original Forms DS-2019 or electronic versions of the forms back to their sponsors for processing. The Department of State clarifies that all these options are available to sponsors.

Several parties asked how the new regulations impact use of the “reprint” function in SEVIS, noting that sponsors cannot prohibit exchange visitors from reprinting the Forms DS-2019 their sponsors provide. Although the Department of State agrees that sponsors cannot effectively monitor whether exchange visitors reprint or copy Forms DS-2019, the Department of State urges sponsors to advise exchange visitors whose Forms DS-2019 are lost, stolen, or damaged to contact their sponsors and ask for new forms. Sponsors must not electronically transmit or print previously issued Forms DS-2019, but rather, they must use the reprint function in SEVIS and send the new forms (electronically or via mail) to the exchange visitor and/or their accompanying spouse or dependents, if any. On a related matter, two sponsors sought clarification on what sponsors should do if former exchange visitors request copies of their Forms DS-2019 after their programs are over. Since the reprint function is available only for SEVIS records in “initial” and “active” status, sponsors should inform current exchange visitors of this limitation and encourage them to safeguard their original paperwork.

In the supplemental section of the 2023 Interim Final Rule, the Department of State indicated that it would eliminate the phrase “or a change in actual and current U.S. address” from 22 CFR 62.12(a)(3)(vii) because this example was not a valid reason to issue Forms DS-2019. In response to one party's comment that the Department of State did not make this change in the regulatory text, the Department of State now corrects this oversight by deleting the phrase in this final rule.

The 2023 Interim Final Rule eliminated the requirement that Officers who wish to continue to wet-sign paper Forms DS-2019 use only blue ink. In response to one commenting party's request for clarification, the Department of State confirms that it has eliminated the requirement that Officers sign Forms DS-2019 in any specific color of ink.

The introduction of electronic Forms DS-2019 and the potential for the varying physical appearance of printed forms raised questions about exchange visitor signature requirements and signature requirements on other official Department of State forms. Four parties questioned whether the 2023 Interim Final Rule had any impact on signature requirements for, e.g., Forms DS-7002 (Training/Internship Placement Plan). The Department of State clarifies that the Exchange Visitor Program regulations have never required other forms to be signed in a particular color of ink and then distributed via mail delivery service. The requirements set forth in the final rule apply only to Forms DS-2019. One commenting party asked whether exchange visitors were required to sign Forms DS-2019 in ink and another noted that the regulations were silent on whether exchange visitors could transmit Forms DS-2019 electronically. The Department of State notes that this final rule regulates actions of designated sponsors, not exchange visitors.

The addition of electronic Forms DS-2019 has raised other similar issues. Four parties sought clarification with respect to whether the requirement at 22 CFR 62.10(g) that sponsors retain copies of records related to their exchange visitor programs for three years referred to paper or electronic files. Regulations governing the retention of records do not specify the format in which sponsors are required to retain records, leaving it up to sponsors to determine whether they wish to retain paper, electronic, or both paper and electronic records. Electronic records should reflect any changes during the program and be consistent with the information in SEVIS, e.g., exchange visitors' program dates or visa status.

Regulatory Analysis and Notices

Administrative Procedure Act

This final rule responds to public comments received on the 2023 Interim Final Rule and makes minor revisions to the provisions on the control of DS-2019 forms in 22 CFR 62.12. For the reasons set forth in the 2023 Interim Final Rule, the Department of State does not believe 5 U.S.C. 553(b) or (c) apply to this rulemaking.

Congressional Review Act

This regulation is not a major rule as defined by 5 U.S.C. 804. This rule will not result in an annual effect on the economy of $100 million or more; a major increase in costs or prices; or significant adverse effects on competition, employment, investment, productivity, innovation, or on the ability of U.S.-based companies to compete with U.S.-based companies in domestic and export markets.

Unfunded Mandates Reform Act of 1995

This regulation will not result in the expenditure by State, local or Tribal governments, in the aggregate, or by the private sector, of $100 million in any year, and it will not significantly or uniquely affect small governments. Therefore, no actions were deemed necessary under the provisions of the Unfunded Mandates Reform Act of 1995 (2 U.S.C. 1501 et seq.).

Executive Order 13175—Consultation and Coordination With Indian Tribal Governments

The Department of State has determined that this regulation will not have Tribal implications; will not impose substantial direct compliance costs on Indian Tribal governments; and will not preempt Tribal law. Accordingly, the requirements of Executive Order 13175 do not apply to this rulemaking.

Regulatory Flexibility Act: Small Business Impacts

Since this rule is exempt from section 553 (Rulemaking) and section 554 (Adjudications) of the Administrative Procedure Act, this rule is not subject to the Regulatory Flexibility Act (5 U.S.C. 601 et seq. (1980)).

Executive Orders 12866, 13563, and 14094

The Department of State has reviewed this rule to ensure its consistency with the regulatory philosophy and principles set forth in Executive Order 12866, as amended by Executive Order 14094, and Executive Order 13563, and affirms that this regulation is consistent with the guidance therein. The Office of Management and Budget (OMB) has designated this rule as not significant under E.O. 12866.

Executive Order 12988

The Department of State has reviewed this rulemaking considering sections 3(a) and 3(b)(2) of Executive Order 12988 to eliminate ambiguity, minimize litigation, establish clear legal standards, and reduce burdens.

Executive Orders 12372 and 13132—Federalism

The Department of State finds that this regulation does not have sufficient federalism implications to require consultations or warrant the preparation of a federalism summary impact statement.

Paperwork Reduction Act

This rulemaking relates to OMB Control No. 1405-0119, Certificate of Eligibility for Exchange Visitor Status (J-Nonimmigrant). The Department of State does not anticipate a reportable change in burden for this information collection as a result of this rulemaking.

List of Subjects in 22 CFR Part 62

Cultural exchange programs, Reporting and recordkeeping requirements.

For the reasons stated in the preamble, the Department of State amends 22 CFR part 62 as follows:

PART 62—EXCHANGE VISITOR PROGRAM

1. The authority citation to part 62 continues to read as follows:

Authority: 8 U.S.C. 1101(a)(15)(J), 1182, 1184, 1258; 22 U.S.C. 1431 et seq.; 22 U.S.C. 2451 et seq.; 22 U.S.C. 2651a; 22 U.S.C. 6531-6553; Reorganization Plan No. 2 of 1977, 42 FR 62461, 3 CFR 1977 Comp. p. 200; E.O. 12048, 43 FR 13361, 3 CFR, 1978 Comp., p. 168; 8 U.S.C. 1372; section 416 of Pub. L. 107-56, 115 Stat. 354 (8 U.S.C. 1372 note); and 8 U.S.C. 1761-1762.

2. Revise § 62.12 to read as follows:

§ 62.12 Control of Forms DS-2019.

(a) Issuance of Forms DS-2019. Sponsors must:

(1) Grant access to SEVIS only to Responsible Officers and Alternate Responsible Officers and ensure that they have access to and use SEVIS to update required information;

(2) Ensure that Responsible Officers and Alternate Responsible Officers input into SEVIS accurate, current, and updated information in accordance with these regulations; and

(3) Issue Forms DS-2019 only for the following purposes if permitted by the regulations and, as necessary, authorized by the Department of State:

(i) To facilitate the initial entry of exchange visitors and accompanying spouses and dependents, if any, into the United States;

(ii) To extend the duration of participation of exchange visitors;

(iii) To facilitate program transfers;

(iv) To replace lost, stolen, or damaged Forms DS-2019;

(v) To facilitate the re-entry into the United States of exchange visitors and accompanying spouses and dependents, if any, who travel outside the United States during exchange visitors' programs;

(vi) To facilitate changes of category;

(vii) To update information when significant changes take place in regard to exchange visitors' programs (e.g., substantial changes in funding or changes in primary sites of activity);

(viii) To facilitate the correction of minor or technical infractions; and

(ix) To facilitate a reinstatement or reinstatement update SEVIS status.

(b) Verification. (1) Prior to issuing Forms DS-2019, sponsors must verify that prospective exchange visitors:

(i) Are eligible for, qualified for, and accepted into the programs in which they will participate;

(ii) Possess adequate financial resources to participate in and complete their exchange visitor programs; and

(iii) Possess adequate financial resources to support accompanying spouses and dependents, if any.

(2) Sponsors must ensure that:

(i) Only Responsible Officers or Alternate Responsible Officers who are physically present in the United States or in a U.S. territory may sign Forms DS-2019 or print original Forms DS-2019;

(ii) Only Responsible Officers or Alternate Responsible Officers whose names are printed on Forms DS-2019 are permitted to sign the forms; and

(iii) Responsible Officers or Alternate Responsible Officers sign paper Forms DS-2019 in ink or sign Forms DS-2019 using digital signature software.

(c) Transmission of Forms DS-2019. (1) Sponsors may transmit Forms DS-2019 either electronically (e.g., via email) or by mailing them (e.g., via postal or delivery service) to only the following individuals or entities: exchange visitors; accompanying spouses and dependents, if any; legal guardians of minor exchange visitors; sponsor staff; Fulbright Commissions and their staff; and Federal, State, or local government agencies or departments.

(2) Sponsors may mail signed paper Forms DS-2019 via postal or delivery service to third parties acting on their behalf for distribution to prospective exchange visitors.

(3) Sponsors may provide third parties acting on their behalf with password-protected access to the sponsors' computer network systems and/or databases to retrieve Forms DS-2019.

(4) Sponsors that allow third parties to retrieve Forms DS-2019 from their computer networks and/or databases may not electronically transmit or physically mail the same Forms DS-2019 to individuals or entities identified in paragraph (c)(1) of this section.

(d) Allotment requests. (1) Annual Form DS-2019 allotment. Sponsors must submit an electronic request via SEVIS to the Department of State for an annual allotment of Forms DS-2019 based on the annual reporting cycle (e.g., academic, calendar, or fiscal year) stated in their letter of designation or redesignation. The Department of State has sole discretion to determine the number of Forms DS-2019 it will issue to sponsors.

(2) Expansion of program. Requests for program expansion must include information such as, but not limited to, the justification for and source of program growth, staff increases, confirmation of adequately trained employees, noted programmatic successes, current financial information, additional overseas affiliates, additional third-party entities, explanations of how the sponsor will accommodate the anticipated program growth, and any other information the Department of State may request. The Department of State will take into consideration the current size of a sponsor's programs and the projected expansion of their programs in the next 12 months and may consult with the Responsible Officer and/or Alternate Responsible Officers prior to determining the number of Forms DS-2019 it will issue.

(e) Safeguards and controls.

(1) Responsible Officers and Alternate Responsible Officers must always secure their SEVIS User Names and passwords (i.e., not share User Names and passwords with any other person or not permit access to and use of SEVIS by any person).

(2) Sponsors may transmit Forms DS-2019 only to the parties listed in paragraph (c) of this section. However, sponsors must transmit Forms DS-2019 to the Department of State or the Department of Homeland Security upon request.

(3) Sponsors must use the reprint function in SEVIS when exchange visitors' Forms DS-2019 are lost, stolen, or damaged, regardless of whether they are transmitting forms electronically or mailing them.

(4) Sponsors must destroy any damaged and/or unusable Forms DS-2019 (e.g., forms with errors or forms damaged by a printer).

Rebecca Pasini,
Deputy Assistant Secretary, Office of Private Sector Exchange, Bureau of Educational and Cultural Affairs, U.S. Department of State.

[FR Doc. 2024-08602 Filed 4-22-24; 8:45 am]

BILLING CODE 4710-05-P